DEPARTMENT OF DEFENSE

Office of the Secretary

[Docket ID: DoD-2024-OS-0015]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by December 9, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Application for Surrogate Association for DoD Self-Service (DS) Logon; DD Form 3005; OMB Control Number 0704-0559.

Type of Request: Revision.

Number of Respondents: 2,500.

Responses per Respondent: 1.

Annual Responses: 2,500.

Average Burden per Response: 8 minutes.

Annual Burden Hours: 333.

Needs and Uses: This information collection is needed to obtain the necessary data to establish an individual's eligibility for Defense Enrollment Eligibility Reporting System (DEERS) and DS Logon credential issuance as a surrogate. Information is collected via the DD Form 3005, “Application for Surrogate Association for DS Logon,” and used to establish a record in DEERS and issue a DS Logon credential in accordance with DoDM 1341.02, Volume 1. The information that is collected may be released to Federal and State agencies and private entities, on matters relating to utilization review, professional quality assurance, program integrity, civil and criminal litigation, and access to Federal government facilities, computer systems, networks, and controlled areas.

Affected Public: Individuals or households.

Frequency: On occasion.

Respondent's Obligation: Voluntary.

OMB Desk Officer: Ms. Jasmeet Seehra.

DOD Clearance Officer: Mr. Reginald Lucas.

Dated: November 4, 2024.
Stephanie J. Bost,
Alternate OSD Federal Register Liaison Officer, Department of Defense.

[FR Doc. 2024-25955 Filed 11-7-24; 8:45 am]

BILLING CODE 6001-FR-P